DEPARTMENT OF COMMERCE

National Oceanic and Atmospheric Administration

Agency Information Collection Activities; Submission to the Office of Management and Budget (OMB) for Review and Approval; Comment Request; Southwest Fisheries Science Center Sea Turtle Sightings Information Collection

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 4, 2022.

ADDRESSES: Interested persons are invited to submit written comments to Adrienne Thomas, NOAA PRA Officer, at Adrienne.thomas@noaa.gov. Do not submit Confidential Business Information or otherwise sensitive or protected information.

FOR FURTHER INFORMATION CONTACT: Requests for additional information or specific questions related to collection activities should be directed to Lynn Massey, Fishery Management Specialist, (562-436-2462), lynn.massey@noaa.gov.

SUPPLEMENTARY INFORMATION:

I. Abstract

NOAA's Southwest Fisheries Science Center (SWFSC) is sponsoring a new information collection under the Endangered Species Act for the purpose of collecting data on West Coast Sea turtle sightings from members of the public. The data collected would include date of the sighting, time of the sighting, sea turtle species (if known), behavior, estimated size, geographic location, photos (if taken), and the public respondent's email address (used to ask follow-up questions if necessary). This information would be used by the SWFSC's Marine Turtle Ecology & Assessment Program to monitor the distribution and timing of sea turtle occurrence along the U.S. West Coast, which will accordingly support its mission to conserve and protect threatened and endangered sea turtle populations. In the future, the SWFSC plans to merge this collection with a broader information collection that will encompass all NOAA Citizen Science projects.

II. Method of Collection

Sea turtle sightings information would be collected on an opportunistic and voluntary basis via a fillable questionnaire posted on the SWFSC's website. A QR code will be printed on multiple NOAA sea turtle outreach materials (e.g., brochures) to direct the public to this website. In the future, the SWFSC may expand data collection to the iNaturalist mobile application.

III. Data

OMB Control Number: 0648-XXXX.

Form Number(s): None.

Type of Review: Regular submission (new information collection).

Affected Public: Individuals or households.

Estimated Number of Respondents: Approximately 132 submissions per year (one respondent could report multiple sea turtle sightings).

Estimated Time per Response: 5 minutes.

Estimated Total Annual Burden Hours: 11 hours.

Estimated Total Annual Cost to Public: There will be no cost to the public.

Respondent's Obligation: Voluntary.

Legal Authority: Endangered Species Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-26419 Filed 12-3-21; 8:45 am]

BILLING CODE 3510-22-P